DEPARTMENT OF DEFENSE

Department of the Air Force

Notice of Intent To Prepare an Environmental Impact Statement for the Moody Air Force Base Comprehensive Airspace Initiative, Georgia

AGENCY: Department of the Air Force, DOD.

ACTION: Notice of intent.

SUMMARY: In accordance with 40 Code of Federal Regulations Section 1508.22, the United States Air Force (Air Force) is issuing this notice of intent to prepare an Environmental Impact Statement (EIS) to assess the potential environmental consequences associated with modifying existing and creating new special use airspace (SUA) in the Moody Airspace Complex to support the training missions at Moody Air Force Base (AFB).

DATES: A public scoping meeting will be held at the University of Georgia, Tifton Campus Conference Center, 15 R D C Road, Tifton, Georgia 31794, on Thursday, December 5, 2019, 5:00 p.m. to 8:00 p.m. (local time). Although comments can be submitted to the Air Force any time during the EIS process, scoping comments are requested by December 20, 2019, to ensure full consideration in the Draft EIS.

ADDRESSES: For questions regarding the Proposed Action, scoping, and EIS development, please contact the Moody AFB Public Affairs Office at (229) 257-4146 or at 23wg.pa@us.af.mil. The public and interested parties can submit their comments through the project website at www.moodyafbairspaceeis.com; mail comments to AFCEC/CZN, Attn: Moody AFB Comprehensive Airspace Initiative, 2261 Hughes Avenue, Suite 155, JBSA Lackland, TX 78236-9853; FedEx and UPS deliveries to AFCEC/CZN, Attn: Moody AFB Comprehensive Airspace Initiative; 3515 S General McMullen, San Antonio, TX 78226-9853; and/or attend the public scoping meeting.

SUPPLEMENTARY INFORMATION: The Moody Airspace Complex, located above 28 counties in south Georgia and north Florida, consists primarily of mid- to higher-altitude (8,000 feet above mean sea level [MSL] to FL180 [18,000 feet]) SUA with limited low-altitude SUA (less than 8,000 feet MSL). A-10C, A-29, HH-60G, and HC-130J aircrews assigned to Moody Air Force Base (AFB), Georgia, have severely constrained access to few existing, overly congested low-altitude SUAs wherein they can conduct required training operations at low-altitude to gain operational proficiency and meet their low-altitude close air support (CAS), personnel recovery (PR), and combat search and rescue (CSAR) mission objectives for combat readiness. Providing additional low-altitude Moody AFB-controlled SUA would support the low-altitude training missions (CSAR, PR, CAS) for aircrews stationed at Moody AFB to ensure aircrew protection, readiness, and increase aircrew lethality in addition to survivability in real-world combat situations.

The Air Force has preliminarily identified three action alternatives to expand low-altitude training airspace at Moody AFB as meeting the purpose of and need for this Proposed Action, and a No Action Alternative. The three action alternatives would create new low-altitude Military Operations Areas (MOAs) beneath and within the lateral confines of existing MOAs and Restricted Areas of the Moody Airspace Complex. While the three alternatives are independent of each other, the decision maker may choose to implement one, a combination of low-altitude MOAs from among the three, or none of the alternatives based on the analysis provided in the EIS. Alternative 1 would create the Corsair North Low, Corsair South Low, Mustang Low, and Warhawk Low MOAs with a floor of 1,000 feet AGL and a ceiling of 7,999 feet MSL; create a Thud Low MOA with a floor of 4,000 feet AGL and a ceiling of 7,999 feet MSL; a Grand Bay MOA with a floor of 100 feet AGL and a ceiling of 499 feet AGL; and lower the floor of the existing Moody 2 North MOA from 500 feet AGL to 100 feet AGL. Alternative 2 would create and modify MOAs as described under Alternative 1, except that the new Corsair North Low, Corsair South Low, Mustang Low, and Warhawk Low MOAs would be created with a floor of 2,000 feet AGL instead of 1,000 feet AGL. Alternative 3 would create and modify MOAs as described under Alternative 1, except that the new Corsair North Low, Corsair South Low, Mustang Low, and Warhawk Low MOAs would be created with a floor of 4,000 feet AGL instead of 1,000 feet AGL.

Training within the new low MOAs would include the use of chaff and flares, with flare use limited to altitudes above 2,000 feet AGL and no use of chaff allowed in the Corsair North Low MOA. Urban Close Air Support, helicopter landing zones, drop zones, and the use of training ordnance at the Grand Bay Range would continue unchanged under all three alternatives. The Proposed Action would not change the number of sorties at Moody AFB airfield or the number of aircraft operations in the Moody Airspace Complex.

Under the No Action Alternative, there would be no addition of low-altitude SUA at Moody Airspace Complex. As such, aircrews at Moody AFB would either continue to conduct limited training operations within existing low-altitude MOAs or continue the time- and cost-intensive practice of scheduling and traveling to distant low-altitude airspace complexes within the region where their ability to actually train within scheduled airspaces could be denied. Under the No Action Alternative, the current airspace constraints would continue and would not provide for realistic training within SUAs associated with Moody AFB. The analysis of the No Action Alternative will provide a benchmark to enable Air Force decision makers to compare the magnitude of the environmental effects of the Proposed Action.

Scoping and Agency Coordination: To effectively define the full range of issues and alternatives to be evaluated in the EIS, the Air Force will determine the scope of the analysis by soliciting comments from interested local, state, and federal elected officials and agencies, as well as interested members of the public and others. The Air Force will also pursue government-to-government consultations with interested Native American tribes.

Adriane Paris,
Acting Air Force Federal Register Liaison Officer.

[FR Doc. 2019-25885 Filed 11-27-19; 8:45 am]

BILLING CODE 5001-10-P